NATIONAL FOUNDATION ON THE ARTS AND THE HUMANITIES

National Endowment for the Arts

National Council on the Arts 216th Meeting

AGENCY: National Endowment for the Arts, National Foundation on the Arts and Humanities.

ACTION: Notice of Meeting.

SUMMARY: Pursuant to section 10 (a) (2) of the Federal Advisory Committee Act, as amended, notice is hereby given that a meeting of the National Council on the Arts will be held open to the public by videoconference. An additional session will be closed to the public for reasons stated below.

DATES: See the SUPPLEMENTARY INFORMATION section for meeting time and date. The meeting will occur in Eastern time and the ending time is approximate.

ADDRESSES: The National Endowment for the Arts, Constitution Center, 400 Seventh Street SW, Washington, DC 20560. This meeting will be held by videoconference. Public portions of the meeting will be webcast. Please see arts.gov for the most up-to-date information.

FOR FURTHER INFORMATION CONTACT: Liz Auclair, Office of Public Affairs, National Endowment for the Arts, Washington, DC 20506, at 202/682-5744.

SUPPLEMENTARY INFORMATION: The meeting will take place on July 10, 2025.

Open Session: July 10, 2025; 1:30 p.m. Location: Videoconference. There will be a discussion of general agency business. This session will be held open to the public by videoconference. To view the webcasting of this session of the meeting, go to: https://www.arts.gov/. If you need special accommodations due to a disability, please contact Office of Civil Rights, National Endowment for the Arts, Constitution Center, 400 7th St. SW, Washington, DC 20506, 202/682-5454, Voice/T.T.Y. 202/682-5496, at least seven (7) days prior to the meeting. If, in the course of the open session discussion, it becomes necessary for the Council to discuss non-public commercial or financial information of intrinsic value, the Council will go into closed session pursuant to subsection (c)(4) of the Government in the Sunshine Act, 5 U.S.C. 552b, and in accordance with the March 11, 2022, determination of the Chair. Additionally, discussion concerning purely personal information about individuals, such as personal biographical and salary data or medical information, may be conducted by the Council in closed session in accordance with subsection (c) (6) of 5 U.S.C. 552b.

Closed Session: July 10, 2025; 10:00 a.m. to 11:00 a.m. Location: Videoconference. This meeting session will be closed to the public for the aforementioned reasons.

Date: June 13, 2025.
Lara Allee,
Program Analyst, Office of Guidelines and Panel Operations.

[FR Doc. 2025-11177 Filed 6-17-25; 8:45 am]

BILLING CODE 7537-01-P